DEPARTMENT OF ENERGY

[FE Docket No. 09-92-LNG]

ConocoPhillips Company; Application for Blanket Authorization To Export Liquefied Natural Gas

AGENCY: Office of Fossil Energy, DOE.

ACTION: Notice of application.

SUMMARY: The Office of Fossil Energy (FE) of the Department of Energy (DOE) gives notice of receipt of an application filed on August 31, 2009 by ConocoPhillips Company (ConocoPhillips), requesting blanket authorization to export liquefied natural gas (LNG) that previously had been imported from foreign sources on their own behalf or as agent for others on a short-term or spot market basis from existing facilities on Quintana Island, Texas in an amount up to the equivalent of 500 Billion cubic feet (Bcf) of natural gas to the United Kingdom, Belgium, Spain, Portugal, Turkey, Brazil, Argentina, Chile, Mexico, the Dominican Republic, Japan, South Korea, India, China, Taiwan, France, and/or Italy, as well as any country with the capacity to import ocean-going LNG, with which trade is not prohibited by U.S. law or policy. ConocoPhillips seeks to export the LNG over a two year period commencing on the date of the authorization.

The application is filed under section 3 of the Natural Gas Act (15 U.S.C. 717b), as amended by section 201 of the Energy Policy Act of 1992 (Pub. L. 102-486), DOE Delegation Order No. 00-002.00G (Jan. 29, 2007) and DOE Redelegation Order No. 00-002.04D (Nov. 6, 2007). Protests, motions to intervene, notices of intervention, and written comments are invited.

DATES: Protests, motions to intervene or notices of intervention, as applicable, requests for additional procedures, and written comments are to be filed at the address listed below no later than 4:30 p.m., eastern time, October 14, 2009.

ADDRESSES:

U.S. Department of Energy (FE-34), Office of Oil and Gas Global Security and Supply, Office of Fossil Energy, Forrestal Building, Room 3E-042, 1000 Independence Avenue, SW., Washington, DC 20585.

FOR FURTHER INFORMATION CONTACT:

Larine Moore or Beverly Howard, U.S. Department of Energy (FE-34), Office of Oil and Gas Global Security and Supply, Office of Fossil Energy, Forrestal Building, Room 3E-042, 1000 Independence Avenue, SW., Washington, DC 20585, (202) 586-9478; (202) 586-9387.

Edward Myers, U.S. Department of Energy, Office of the Assistant General Counsel for Fossil Energy and Energy Efficiency, Forrestal Building, Room 6B-159, 1000 Independence Ave., SW., Washington, DC 20585, (202) 586-3397.

SUPPLEMENTARY INFORMATION:

Background

ConocoPhillips is a Delaware corporation with its principal place of business in Houston, Texas. ConocoPhillips is an independent producer and seller of natural gas and an importer of LNG into the U.S. ConocoPhillips requests that the proposed authorization to export LNG requested herein be applicable to exports from the Freeport LNG Development, L.P. (FLNG) terminal. FLNG has previously received authorization from the Federal Energy Regulatory Commission (FERC) to site, construct and operate a new LNG import, storage, and vaporization terminal on Quintana Island, Texas and an associated 9.6-mile long send-out pipeline.¹ On July 1, 2008, FERC issued a letter Order granting FLNG's request to commence service at its Quintana Island import terminal. FLNG also received FERC authorization to modify its facilities so as to enable exports of LNG in addition to imports of LNG.² ConocoPhillips has a long-term terminal use agreement with FLNG for 0.9 Bcf per day of LNG storage and regasification capacity. No additional facility modifications will be required to enable ConocoPhillips to also export LNG from the FLNG terminal.

¹ Freeport LNG Development, L.P., Order Granting Authorization Under Section 3 of the Natural Gas Act, 107 FERC ¶ 61,278 (2004); Order Granting Requests for Rehearing and Clarification, 108 FERC ¶ 61,253 (2004); and Order Amending Section 3 Authorization, 112 FERC ¶ 61,194 (2005).

² See Freeport LNG Development, L.P., 127 FERC ¶ 61,105 (2009); Sabine Pass LNG, L.P., 127 FERC ¶ 61,200 (2009).

On July 24, 2009, FE granted ConocoPhillips blanket authorization to import up to 500 Bcf of LNG from various international sources for a two-year term which began on August 1, 2009 and extends through July 30, 2011.³

³ ConocoPhillips Company, DOE/FE Order No. 2673, issued July 24, 2009.

Current Application

In the instant application, ConocoPhillips is seeking blanket authorization to export LNG over a two-year period, on a short-term or spot market basis, in an amount up to the equivalent of 500 Bcf of natural gas, which has been imported into the U.S. ConocoPhillips is seeking this authorization so that it may sell in non-U.S. markets any LNG it has previously imported should U.S. market prices not support the sale of such imported LNG domestically.

Public Interest Considerations

In support of its application, ConocoPhillips states that there is no domestic reliance on the LNG that it seeks to export. Due to global LNG market conditions, U.S. natural gas demand and prices do not currently support the importation of LNG into the U.S, and export authorization is needed in order to enable the applicant to economically import LNG should U.S. market conditions change.

ConocoPhillips also states in its application that local natural gas supplies will not be reduced. The applicant states that it intends to export only foreign sourced LNG, and does not intend to export domestically produced natural gas. Additionally, ConocoPhillips states that granting the requested authorization would make the importation of LNG into the U.S. more attractive because, once imported, ConocoPhillips will have the option of either selling into U.S. markets or exporting to other markets based upon prevailing market conditions.

DOE/FE Evaluation

This export application will be reviewed pursuant to section 3 of the Natural Gas Act, as amended, and the authority contained in DOE Delegation Order No. 00-002.00G (Jan. 29, 2007) and DOE Redelegation Order No. 00-002.04D (Nov. 6, 2007). In reviewing this LNG export application, DOE will consider domestic need for the gas, as well as any other issues determined to be appropriate, including whether the arrangement is consistent with DOE's policy of promoting competition in the marketplace by allowing commercial parties to freely negotiate their own trade arrangements. Parties that may oppose this application should comment in their responses on these issues.

ConocoPhillips asserts the proposed authorization is in the public interest. Under section 3 of the Natural Gas Act, as amended, an LNG export from the U.S. to a foreign country must be authorized unless “the proposed exportation will not be consistent with the public interest.” Section 3 thus creates a statutory presumption in favor of approval of this application, and parties opposing the authorization bear the burden of overcoming this presumption.

Additionally, the National Environmental Policy Act (NEPA), 42 U.S.C. 4321 et seq., requires DOE to give appropriate consideration to the environmental effects of its proposed decisions. No final decision will be issued in this proceeding until DOE has met its NEPA responsibilities.

Public Comment Procedures

In response to this notice, any person may file a protest, motion to intervene or notice of intervention, as applicable, and written comments. Any person wishing to become a party to the proceeding and to have their written comments considered as a basis for any decision on the application must file a motion to intervene or notice of intervention, as applicable. The filing of a protest with respect to the application will not serve to make the protestant a party to the proceeding, although protests and comments received from persons who are not parties will be considered in determining the appropriate action to be taken on the application. All protests, motions to intervene, notices of intervention, and written comments must meet the requirements specified by the regulations in 10 CFR part 590. Protests, motions to intervene, notices of intervention, requests for additional procedures, and written comments should be filed with the Office of Oil and Gas Global Security and Supply at the address listed above.

A decisional record on the application will be developed through responses to this notice by parties, including the parties' written comments and replies thereto. Additional procedures will be used as necessary to achieve a complete understanding of the facts and issues. A party seeking intervention may request that additional procedures be provided, such as additional written comments, an oral presentation, a conference, or trial-type hearing. Any request to file additional written comments should explain why they are necessary. Any request for an oral presentation should identify the substantial question of fact, law, or policy at issue, show that it is material and relevant to a decision in the proceeding, and demonstrate why an oral presentation is needed. Any request for a conference should demonstrate why the conference would materially advance the proceeding. Any request for a trial-type hearing must show that there are factual issues genuinely in dispute that are relevant and material to a decision and that a trial-type hearing is necessary for a full and true disclosure of the facts.

If an additional procedure is scheduled, notice will be provided to all parties. If no additional procedures are adopted, a final Opinion and Order may be issued based on the official record, including the application and responses filed by parties pursuant to this notice, in accordance with 10 CFR 590.316.

The application filed by ConocoPhillips Company is available for inspection and copying in the Office of Oil and Gas Global Security and Supply docket room, 3E-042, at the above address. The docket room is open between the hours of 8 a.m. and 4:30 p.m., Monday through Friday, except Federal holidays. The application is also available electronically by going to the following Web address: http://www.fe.doe.gov/programs/gasregulation/index.html.

Issued in Washington, DC, on September 8, 2009.
Robert F. Corbin,
Manager, Natural Gas Regulatory Activities, Office of Oil and Gas Global Security and Supply, Office of Fossil Energy.

[FR Doc. E9-21996 Filed 9-11-09; 8:45 am]

BILLING CODE 6450-01-P